DEPARTMENT OF ENERGY

Federal Energy Regulatory Commission

Combined Notice of Filings #1

Take notice that the Commission received the following electric corporate filings:

Docket Numbers: EC17-112-000.

Applicants: Playa Solar 1, LLC, Playa Solar 2, LLC, EDF Renewable Energy, Inc.

Description: Application for Authorization Under Section 203 of the Federal Power Act and Request for Expedited Action, Confidential Treatment, and Waivers of Playa Solar 1, LLC, et al.

Filed Date: 5/5/17.

Accession Number: 20170505-5227.

Comments Due: 5 p.m. ET 5/26/17.

Take notice that the Commission received the following electric rate filings:

Docket Numbers: ER11-4453-001.

Applicants: Santanna Natural Gas Corporation.

Description: Supplement to January 23, 2017 Notice of Material Change in Status of Santanna Natural Gas Corporation.

Filed Date: 5/3/17.

Accession Number: 20170503-5176.

Comments Due: 5 p.m. ET 5/24/17.

Docket Numbers: ER15-1905-005.

Applicants: Amazon Energy LLC.

Description: Notice of Change in Status of Amazon Energy LLC.

Filed Date: 5/3/17.

Accession Number: 20170503-5179.

Comments Due: 5 p.m. ET 5/24/17.

Docket Numbers: ER16-1923-003.

Applicants: LWP Lessee, LLC.

Description: Compliance filing: LWP Lessee Filing of Reactive Power Rate Schedule Approved in Settlement to be effective 8/14/2016.

Filed Date: 5/5/17.

Accession Number: 20170505-5193.

Comments Due: 5 p.m. ET 5/26/17.

Docket Numbers: ER17-1555-000.

Applicants: Arizona Public Service Company.

Description: § 205(d) Rate Filing: Amendment No. 1 to Service Agreement Nos. 338 and 339 to be effective 5/1/2017.

Filed Date: 5/5/17.

Accession Number: 20170505-5157.

Comments Due: 5 p.m. ET 5/26/17.

Docket Numbers: ER17-1556-000.

Applicants: Midcontinent Independent System Operator, Inc.

Description: § 205(d) Rate Filing: 2017-05-05_Data Sharing with Natural Gas Pipelines to be effective 7/5/2017.

Filed Date: 5/5/17.

Accession Number: 20170505-5177.

Comments Due: 5 p.m. ET 5/26/17.

Docket Numbers: ER17-1557-000.

Applicants: Duke Energy Progress, LLC.

Description: § 205(d) Rate Filing: DEP-NCEMPA RS No. 200 Revised PPA to be effective 7/1/2017.

Filed Date: 5/5/17.

Accession Number: 20170505-5189.

Comments Due: 5 p.m. ET 5/26/17.

Docket Numbers: ER17-1559-000.

Applicants: FirstEnergy Solutions Corp.

Description: Request for Authorization to Make Wholesale Power Sales to Affiliated Utility of FirstEnergy Solutions Corp.

Filed Date: 5/3/17.

Accession Number: 20170503-5175.

Comments Due: 5 p.m. ET 5/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2017.
Kimberly D. Bose,
Secretary.

[FR Doc. 2017-09679 Filed 5-11-17; 8:45 am]

BILLING CODE 6717-01-P